DEPARTMENT OF COMMERCE

National Institute of Standards and Technology

National Construction Safety Team Advisory Committee Meeting

AGENCY: National Institute of Standards and Technology (NIST), United States Department of Commerce.

ACTION: Notice of Open Federal Advisory Committee Meeting.

SUMMARY: The National Construction Safety Team (NCST) Advisory Committee (Committee), will hold a meeting via teleconference on Thursday, July 2, 2015 from 3:30 p.m. to 5:30 p.m. Eastern Time. The purpose of this meeting is to discuss the NCST Advisory Committee's draft annual report to Congress. A copy of the draft report will be posted prior to the meeting on the NCST Advisory Committee's Web site at http://www.nist.gov/el/disasterstudies/ncst/index.cfm. Interested members of the public will be able to participate in the meeting from remote locations by calling into a central phone number.

DATES: The NCST Advisory Committee will hold a meeting via teleconference on Thursday, July 2, 2015 from 3:30 p.m. to 5:30 p.m.

ADDRESSES: Questions regarding the meeting should be sent to Dr. Long Phan, Acting Director of the Disaster and Failure Studies Program at the following address: National Institute of Standards and Technology, 100 Bureau Drive, Mail Stop 8611, Gaithersburg, Maryland 20899-8611. For instructions on how to participate in the meeting, please see the SUPPLEMENTARY INFORMATION section of this notice.

FOR FURTHER INFORMATION CONTACT: Dr. Long Phan, Acting Director, Disaster and Failure Studies, National Institute of Standards and Technology, 100 Bureau Drive, Mail Stop 8611, Gaithersburg, Maryland 20899-8611, email: long.phan@nist.gov, phone: (301) 975-6077.

SUPPLEMENTARY INFORMATION: The NCST Advisory Committee was established pursuant to Section 11 of the National Construction Safety Team Act (15 U.S.C. 7301 et seq.). The NCST Advisory Committee is comprised of nine members, appointed by the Director of NIST, who were selected for their technical expertise and experience, established records of distinguished professional service, and their knowledge of issues affecting NCST Teams established under the NCST Act. The NCST Advisory Committee advises the Director of NIST on (1) the functions and composition of NCST Teams established under the NCST Act, (2) the exercise of authorities enumerated in the NCST Act, and (3) the procedures developed to implement the NCST Act. The NCST reports are issued under section 8 of the NCST Act. Background information on the NCST Act and information on the NCST Advisory Committee is available at http://www.nist.gov/el/disasterstudies/ncst.

Pursuant to the Federal Advisory Committee Act, as amended, 5 U.S.C. App., notice is hereby given that the NCST Advisory Committee will hold a meeting via teleconference on Thursday, July 2, 2015 from 3:30 p.m. to 5:30 p.m. Eastern Time. There will be no central meeting location. Interested members of the public will be able to participate in the meeting from remote locations by calling into a central phone number. The primary purpose of this meeting is to discuss the NCST Advisory Committee's draft annual report to Congress. A copy of the draft report will be posted on the NCST Advisory Committee's Web site at http://www.nist.gov/el/disasterstudies/ncst/index.cfm.

Approximately fifteen minutes will be reserved from 5:15 p.m.-5:30 p.m. Eastern Time for public comments; speaking times will be assigned on a first-come, first-serve basis. The amount of time per speaker will be determined by the number of requests received, but is likely to be 3 minutes each. Questions from the public will not be considered during this period. Speakers who wish to expand upon their oral statements, those who had wished to speak but could not be accommodated on the agenda, and those who were unable to participate are invited to submit written statements to the National Construction Safety Team Advisory Committee, National Institute of Standards and Technology, 100 Bureau Drive, MS 8604, Gaithersburg, Maryland 20899-8604, via fax at (301) 975-4032, or electronically by email to ncstac@nist.gov.

All participants in the meeting are required to pre-register. Anyone wishing to participate must register by 5:00 p.m. Eastern Time on Wednesday July 1st to be included. In order to register please submit your name, email address, and phone number to Dr. Long Phan, at long.phan@nist.gov. Questions can also be directed to Dr. Phan at 301-975-6077. After registering, participants will be provided with detailed instructions on how to dial in from a remote location in order to participate.

Kevin Kimball,
Chief of Staff.

[FR Doc. 2015-12425 Filed 5-21-15; 8:45 am]

BILLING CODE 3510-13-P